SMALL BUSINESS ADMINISTRATION

[Disaster Declaration # 12503 and # 12504]

Hawaii Disaster # HI-00022

AGENCY: U.S. Small Business Administration.

ACTION: Amendment 2.

SUMMARY: This is an amendment to the Administrative declaration of a disaster for the State of HAWAII dated 03/29/2011.

Incident: Honshu Tsunami.

Incident Period: 03/11/2011.

Effective Date: 04/26/2011.

Physical Loan Application Deadline Date: 05/31/2011.

Economic Injury (EIDL) Loan Application Deadline Date: 12/29/2011.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrator's disaster declaration in the State of Hawaii, dated 03/29/2011, is hereby amended to include the following areas as adversely affected by the disaster.

Primary Area: City and County of Honolulu.

Contiguous Counties: None.

All other information in the original declaration remains unchanged.

(Catalog of Federal Domestic Assistance Numbers 59002 and 59008)

Dated: April 26, 2011.
Karen G. Mills,
Administrator.

[FR Doc. 2011-10621 Filed 4-29-11; 8:45 am]

BILLING CODE 8025-01-P